DEPARTMENT OF COMMERCE

National Oceanic and Atmospheric Administration

[RTID 0648-XE130]

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a two-hour webinar meeting of its Ecosystem Technical Committee (ETC).

DATES: The webinar meeting will be held Friday, August 9, 2024, from 1 p.m. to 3 p.m., EDT.

ADDRESSES: The meeting will take place via webinar. Registration information will be available on the Council's website by visiting www.gulfcouncil.org and clicking on the “meeting tab”.

Council address: Gulf of Mexico Fishery Management Council, 4107 W Spruce Street, Suite 200, Tampa, FL 33607; telephone: (813) 348-1630.

FOR FURTHER INFORMATION CONTACT: Dr. Verena Wang, Fishery Biologist, Gulf of Mexico Fishery Management Council; verena.wang@gulfcouncil.org, telephone: (813) 348-1630.

SUPPLEMENTARY INFORMATION:

Friday, August 9, 2024; 1 p.m.-3 p.m. EDT

The meeting will begin with Introductions and Adoption of Agenda, Approval of Minutes and Meeting Summary from the September 2023 meeting and a review of Scope of Work. The committee will review and discuss the Ecosystem Based Fisheries Management Road Map Update along with receiving a presentation and review of a draft comment letter to National Oceanic and Atmospheric Administration (NOAA).

The Committee will receive public comment at the end of the day and discuss any items under Other Business.

—Meeting Adjourns

The meeting will be broadcast via webinar. You may register for the webinar by visiting www.gulfcouncil.org and clicking on the Technical meeting on the calendar.

The agenda is subject to change, and the latest version along with other meeting materials will be posted on www.gulfcouncil.org as they become available.

Although other non-emergency issues not on the agenda may come before the Committee for discussion, in accordance with the Magnuson-Stevens Fishery Conservation and Management Act, those issues may not be the subject of formal action during this meeting. Actions of the Committee will be restricted to those issues specifically identified in the agenda and any issues arising after publication of this notice that require emergency action under Section 305(c) of the Magnuson-Stevens Fishery Conservation and Management Act, provided the public has been notified of the Council's intent to take-action to address the emergency.

Special Accommodations

The meeting is physically accessible to people with disabilities. Requests for sign language interpretation or other auxiliary aid should be directed to Kathy Pereira, (813) 348-1630, at least 5 days prior to the meeting date.

Authority: 16 U.S.C. 1801 et seq.

Dated: July 18, 2024.
Rey Israel Marquez,
Acting Deputy Director, Office of Sustainable Fisheries, National Marine Fisheries Service.

[FR Doc. 2024-16216 Filed 7-23-24; 8:45 am]

BILLING CODE 3510-22-P